DEPARTMENT OF TRANSPORTATION

Federal Highway Administration

Environmental Impact Statement: Butler County, OH

AGENCY: Federal Highway Administration (FHWA), DOT.

ACTION: Notice of Intent.

SUMMARY: The FHWA is issuing this notice to advise the public that an Environmental Impact Statement may be prepared for a proposed transportation project in Butler County, Ohio.

FOR FURTHER INFORMATION CONTACT: Mark L. Vonder Embse, Urban Programs Engineer, Federal Highway Administration, 200 North High Street, Room 328, Columbus, Ohio 43215, Telephone: (614) 280-6854.

SUPPLEMENTARY INFORMATION: The FHWA, in cooperation with the Ohio Department of Transportation, will prepare an Environmental Impact Statement (EIS) for a proposed improvement in the vicinity of Trenton, Ohio. The project termini are approximately US-127, north of the Village of Seven Mile, and the SR-63/SR-4 interchange. The study area is approximately 9 miles in length.

The purpose and need of the project are to address travel demand and capacity, access and safety deficiencies. Alternatives under consideration include: (1) Taking no action; (2) Constructing a new highway on new location; (3) Upgrading existing facilities. FHWA, ODOT, and local agencies will be invited to participate in defining the alternatives to be evaluated in the EIS, and any significant social, economic, or environmental issues related to the alternatives.

Letters describing the proposed action and soliciting comments will be sent to appropriate Federal, State, and local agencies and to private organizations and citizens who have previously expressed or are known to have interest in this proposal. A series of public meetings will be held in the project area. In addition, a public hearing will be held. Public notice will be given of the time and place of the meetings and hearing. The draft EIS will be available for public and agency review and comment prior to the public hearing. Scoping activities will be conducted.

To ensure that the full range of issues related to this proposed action are identified and addressed, comments and suggestions are invited from all interested parties. Comments or questions concerning this proposed action should be sent to the FHWA at the address provided above.

(Catalog of Federal Domestic Assistance Program Number 20.205, Highway Planning and Construction. The regulations implementing Executive Order 12372 regarding intergovernmental consultation on Federal programs and activities apply to this program.)

Issued on: September 26, 2000.
Mark L. Vonder Embse,
Urban Programs Engineer, Federal Highway Administration, Columbus, Ohio.

[FR Doc. 00-25767 Filed 10-5-00; 8:45 am]

BILLING CODE 4910-22-P